DEPARTMENT OF AGRICULTURE

Food and Nutrition Service

Submission for OMB Review; Comment Request

May 20, 2016.

The Department of Agriculture has submitted the following information collection requirement(s) to OMB for review and clearance under the Paperwork Reduction Act of 1995, Public Law 104-13. Comments are requested regarding (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding this information collection received by June 27, 2016 will be considered. Written comments should be addressed to: Desk Officer for Agriculture, Office of Information and Regulatory Affairs, Office of Management and Budget (OMB), OIRA_Submission@omb.eop.gov or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Food and Nutrition Service

Title: 7 CFR part 235—State Administrative Expense Funds.

OMB Control Number: 0584-0067.

Summary of Collection: The authority for this collection is provided for in Sections 7 and 10 of the Child Nutrition Act of 1966, 80 Stat. 888, 889, as amended (42 U.S.C. 1776, 1779). As required, Food and Nutrition Service (FNS) issued regulations in 7 CFR part 235, which prescribes the methods for making payments of funds to State agencies to use for administrative expenses incurred in supervising and giving technical assistance in connection with activities undertaken by them under the National School Lunch Program (NSLP) (7 CFR part 210), the Special Milk Program (SMP) (7 CFR part 215), the School Breakfast Program (SBP) (7 CFR part 220), the Child and Adult Care Food Program (CACFP) (7 CFR part 226), and the Food Distribution Program (FDP) (7 CFR part 250).

Need and Use of the Information: Under this information collection, FNS collects the information necessary for making payments for funds to State agencies to use for the administrative expenses incurred in supervising and giving technical assistance in connection with the activities undertaken by the State agency under NSLP, SMP, SBP, CACFP, and the FDP. The Federal regulations in 7 CFR part 235 SAE Funds require the collection of information associated with this collection. This information is collected through written agreements that cover the operation of the Program during a specified period; State Administrative Expense plans that outline funding and activities; State Administrative Expense Funds Reallocation Reports that describe the use of SAE funds; and annual reports containing information on School Food Authorities (SFAs) under agreement with the State agency to participate in the National School Lunch or Commodity School Programs.

Description of Respondents: State, Local, or Tribal Government.

Number of Respondents: 84.

Frequency of Responses: Recordkeeping; Reporting: Quarterly and Annually.

Total Burden Hours: 6,631.

Title: Senior Farmers' Market Nutrition Program (SFMNP).

OMB Control Number: 0584-0541.

Summary of Collection: Section 4203 of the Agricultural Act of 2014 (Pub. L. 113-79) reauthorized the Senior Farmers' Market Nutrition Program (SFMNP) through fiscal year 2018; a prior law (the Farm Security and Rural Investment Act of 2002 (Pub. L. 107-171)) gave the Department of Agriculture the authority to promulgate regulations for the operation and administration of the SFMNP. These regulations are published at 7 CFR part 249. The purposes of the SFMNP are to provide resources in the form of fresh, nutritious, unprepared, locally grown fruits, vegetables, honey and herbs from farmers' markets, roadside stands, and community supported agriculture (CSA) programs to low income seniors; to increase the domestic consumption of agricultural commodities by expanding or aiding in the expansion of domestic farmers' markets, roadside stands, and CSA programs; and to develop or aid in the development of new and additional farmers' markets, roadside stands, and CSA programs.

Need and Use of the Information: The SFMNP financial and program information is collected on FNS Form FNS-683a, “Senior Farmers' Market Nutrition Program (SFMNP) Annual Financial and Program Data Report” and is submitted annually to the Food and Nutrition Service (FNS) by participating SFMNP State agencies. This information is used to reconcile and close out grants in accordance with the requirements of 7 CFR 3016.23(b) and 7 CFR 3016.41(a)(1). FNS collects information to assess how each State agency operates and to ensure the accountability of State agencies, local agencies, and authorized farmers/farmers' markets, roadside stands, and CSA programs in administering the SFMNP. Program information is also used by FNS for program planning purposes, and for reporting to Congress as needed.

Description of Respondents: State, Local, or Tribal Government; Individuals/households; Farms, Business or other for-profit; and Not-for-profit institutions.

Number of Respondents: 804,714.

Frequency of Responses: Recordkeeping; Reporting: Annually.

Total Burden Hours: 421,920.

Title: Follow Up to An Assessment of the Roles and Effectiveness of Community-based Organizations in the Supplemental Nutrition Assistance Program (SNAP).

OMB Control Number: 0584-0578.

Summary of Collection: State and local SNAP offices are partnering with Community Based-Organizations (CBOs) that have the capacity to provide application assistance and conduct applicant interviews for SNAP participants across five States. FNS has approved these partnerships as part of a demonstration of “Community Partner Interviewer Projects.” In 2015, FNS released a report that assessed whether the use of CBOs to conduct SNAP applicant interviews had an impact on SNAP program performance. Specific program outcomes included efficiency, payment accuracy and client satisfaction. FNS has extended the demonstration projects, and to further assess the impact of these SNAP-CBO partnerships on SNAP program outcomes, FNS is seeking to collect additional data from the five States and those respondents that are participating in the demonstration.

Need and Use of the Information: This revised collection supports the extension of the demonstration projects, to further assess the impact of these SNAP-CBO partnerships on SNAP program outcomes such as efficiency, payment accuracy and client satisfaction surveys. FNS is seeking to collect additional data from the five States, SNAP participants and CBOs that are participating in the demonstration.

The purpose of this information collection is to support research that assesses the roles and effectiveness of approximately 10 CBOs that are serving as representatives of the 5 SNAP State agencies with FNS-approval to implement a Community Partner Interview demonstration.

Description of Respondents: 5 State, Local, or Tribal Government; 3,452 Individuals/Households and 10 Business-not-for-profit.

Number of Respondents: 3,467.

Frequency of Responses: Reporting: Annually.

Total Burden Hours: 558.

Ruth Brown,
Departmental Information Collection Clearance Officer.

[FR Doc. 2016-12381 Filed 5-25-16; 8:45 am]

BILLING CODE 3410-30-P